DEPARTMENT OF THE INTERIOR

Bureau of Land Management

[LLORW00000 L51010000, ER0000 LVRWH11H0730 HAG11-0275]

Notice of Realty Action: Direct (Non-Competitive) Sale of Reversionary Interest in Benton County, WA

AGENCY: Bureau of Land Management, Interior.

ACTION: Notice of realty action.

SUMMARY: The reversionary interest held by the United States in the land described in SUPPLEMENTARY INFORMATION below has been determined suitable for direct sale and release to the City of West Richland, Washington, under the authority of Section 203 of the Federal Land Policy and Management Act of 1976 (FLPMA). The parcel is currently patented to the City of West Richland, Washington, pursuant to the Recreation and Public Purposes Act of 1926, as amended and supplemented; however, the purpose for which the parcel can be used is restricted by the reversionary clause.

DATES: Comments regarding the proposed sale and other pertinent documents must be received by the Bureau of Land Management (BLM) on or before December 22, 2011.

ADDRESSES: Mail written comments to June E. Hues, Field Manager, Border Field Office, 1103 N. Fancher Road, Spokane Valley, Washington 99212-1275.

FOR FURTHER INFORMATION CONTACT: Mark Hatchel, Realty Specialist, at the address listed above, (509) 536-1211, or by email at: mhatchel@blm.gov. Persons who use a telecommunications device for the deaf (TDD) may call the Federal Information Relay Service (FIRS) at 1-(800) 877-8339 to contact the above individual during the normal business hours. The FIRS is available 24 hours a day, 7 days a week, to leave a message or question with the above individual. You will receive a reply during normal business hours.

SUPPLEMENTARY INFORMATION: The purpose for the sale of the reversionary interest in the land patented to the City of West Richland, Washington, (City) is to allow and achieve the highest and best uses of the parcel and to meet the needs of the City without the threat of a reversion of the title for breach of patent conditions. The parcel meets the disposal standards in the 1987 BLM Spokane Resource Management Plan and the regulations at 43 CFR part 2710. The parcel is not needed for Federal purposes and the United States has no present interest in the property other than the reservation of the mineral interests to the United States, and its disposal will be in the public interest. The action is consistent with Federal laws, State and local planning and zoning ordinances. The reversionary interest in this property will be offered by direct sale and released to the City for the fair market value of $1,600,000. The reversionary interest in this property will not be conveyed and released until at least January 6, 2012.

Pursuant to the terms and conditions of the original patent, dated January 13, 1983, the United States retains and continues to hold a reversionary interest on the following land as described in the before-mentioned patent:

Willamette Meridian

T. 9 N., R. 27 E.,

Sec. 12, SE¼SE¼.

The area described contains 40 acres in Benton County.

The City's initial purpose for the parcel was as a sewage interceptor site and lagoon. This use is no longer needed. The City had requested to change the use and control of all or a portion of the parcel from municipal or recreational purposes to commercial purposes to accommodate community expansion and commercial development. Changing the use of the parcel to commercial purposes would violate the terms of the patent. Therefore, the City has requested to purchase the reversionary interest on all or a portion of the parcel. To provide purchase options to the City, the parcel was split into three government lots by means of a cadastral survey that was funded by the City. As a result of the survey, the description of the parcel determined suitable for direct sale and release to the City is now described as:

Willamette Meridian

T. 9 N., R. 27 E.,

Sec. 12, lots 1, 2, and 3.

The area described contains 38.53 acres in Benton County per the official, filed survey, dated April 27, 2011.

Direct sale procedures would be conducted under the provisions found at 43 CFR 2711.3-3(a)(1) and (2) for direct sales. A direct sale to the City is appropriate in this case as the parcel was patented previously to the City and the sale of the Federal reversionary interest, if it were sanctioned to any other entity, would not protect existing equities of the City of West Richland, Washington. The sale and release of the reversionary interest of the 38.53 acres will be made in accordance with FLPMA and the applicable regulations of the Secretary of the Interior, and will be subject to the following:

1. A right-of-way for ditches or canals constructed by the authority of the United States pursuant to the Act of August 30, 1890;

2. A condition that the conveyance be subject to all valid existing rights of record;

3. The terms and conditions of the United States patent 46-83-0050, including, but not limited to, all mineral deposits in the land so patented, and to it, or persons authorized by it, the right to prospect for, mine, and remove such deposits from the same under applicable law and such regulations as the Secretary of the Interior may prescribe;

4. All parcels are subject to the requirements of Section 120(h) of the Comprehensive Environmental Response, Compensation, and Liability Act, as amended (42 U.S.C. Section 9620(h));

5. No representation, warranty, or covenant of any kind, express or implied, is given or made by the United States as to access to or from any parcel of land, the title, whether or to what extent the land may be developed, its physical condition, present or potential uses, or any other circumstance or condition; and,

6. Additional terms and conditions that the authorized officer deems appropriate. Detailed information concerning the proposed sale, including the appraisal, planning and environmental documents, and Environmental Site Assessment, are available for review at the location identified in ADDRESSES above.

Public comments regarding the proposed sale of the reversionary interest may be submitted in writing to the attention of the BLM Border Field Manager (see ADDRESSES above) on or before December 22, 2011. Comments received by telephone or in electronic form, such as facsimiles and email, will not be considered. Any adverse written comments will be reviewed by the BLM State Director, who may sustain, vacate, or modify this proposed realty action and issue a final determination. In the absence of timely objections, this proposal shall become the final decision of the Department of the Interior. Before including your address, phone number, email address, or other personal identifying information in your comment, you should be aware that your entire comment—including your personal identifying information—may be made publicly available at any time. While you can ask us in your comment to withhold your personal identifying information from public review, we cannot guarantee that we will be able to do so.

Authority: 2711.1-2(a).

June E. Hues,
Border Field Manager, Spokane District.

[FR Doc. 2011-28709 Filed 11-4-11; 8:45 am]

BILLING CODE 4310-33-P